DEPARTMENT OF JUSTICE

[AAG/A Order No. 229-2001]

Privacy Act of 1974; System of Records

Pursuant to the provisions of the Privacy Act of 1974 (5 U.S.C. 552a), the Justice Management Division, Department of Justice, proposes to modify a system of records entitled, “Department of Justice (DOJ) Employee Transportation Facilitation System, Justice/JMD-017.” Notice of the system was last published in the Federal Register on November 10, 1998 (63 FR 63075).

The purpose of this system is to assign and control the official use of vehicle parking space for which DOJ is responsible; enhance the Department's ridesharing program; and manage the Department's transit subsidy program. The proposed modification would allow the Department to: (1) Comply with the Clean Air Act (42 U.S.C. 7418) which requires employee-operated motor vehicles on federal facilities to comply with the state vehicle inspection and maintenance laws and regulations of the state in which the facility is located, and (2) Manage the transportation benefit programs permitted by 5 U.S.C. 7905 and required by Executive Order 13150. “System Name” has been changed to “Department of Justice (DOJ) Employee Transportation Management System, Justice/JMD-017.” System Location(s) has been modified to allow for the maintenance of records at field offices or regional offices. A new routine use identified as routine use (5) has been added, allowing for the Department to provide summary compliance reports to the states. Appropriate changes related to the addition of this information have been made throughout the system description. Routine use 7(e) allows disclosure to the Internal Revenue Service of any document which provides information related to tax matters. In addition, routine use (8) is added to allow disclosure to contractors; and routine use (9) is added to allow disclosure to former employees for certain purposes. Changes have also been incorporated regarding the records retention requirements due to revisions of the General Records Schedules.

Title 5 U.S.C. 552a(e)(4) and (11) provide that the public be given a 30-day period in which to comment on the revised system; the Office of Management and Budget (OMB), which has oversight responsibility under the Act, requires 40 days to review the system modifications. Therefore, the public, OMB, and the Congress are invited to submit written comments to Mary Cahill, Management Analyst, Management and Planning Staff, Justice Management Division, Department of Justice, Washington, DC 20530 (Room 1400, National Place Building).

In accordance with 5 U.S.C. 552a(r), the Department has provided a report on the system modification to OMB and the Congress. The system description is reprinted below.

Dated: April 11, 2001.
Janis A. Sposato,
Acting Assistant Attorney General for Administration.

JUSTICE/JMD-017

System Name:

Department of Justice (DOJ) Employee Transportation Management System, Justice/JMD-017.

System Location(s):

Records are located in the offices of the Employee Transportation Coordinator of the respective DOJ components as listed in Appendix I of Part 16, 28 CFR. Records may also be maintained at individual DOJ facilities or regional offices.

Categories of Individuals Covered by the System:

Covered are any individuals who may apply for or participate in the ridesharing, parking, or transportation benefit programs of the DOJ. The term “transportation benefits” include the transit subsidy program and the transportation fringe benefits (tax exclusion) program. Individuals include: (1) DOJ employees and other federal and non-federal agency employee applicants for, and/or recipients of ridesharing information; (2) DOJ applicants for and/or recipients of parking privileges; (3) DOJ and other federal and non-federal agency employees, who may participate as riders in the parking program with DOJ employees who have applied for or who have been granted parking privileges; (4) DOJ applicants for, and/or recipients of, transportation benefits and authorized use of home-to-work transportation.

DOJ employee applicants and recipients may include former DOJ employees; non-federal employees may include private sector and other state and local government employees.

Categories of Records in the System:

Records in the system include any records necessary to carry out the responsibilities authorized by law related to parking, ridesharing, and transportation benefit programs.

Paper records may include DOJ car/vanpool parking space applications and written requests for executive, unusual and handicapped parking assignments; ridesharing applications which provide or request application information related to availability for car/vanpools, and/or which provide or request similar information related to potential car/vanpool members; transportation benefit program applications and certifications; correspondence to applications; documentation of usage; tax information related to participation in the transportation benefit programs; Clean Air Act information and paperwork documenting compliance with state requirements; and administrative reports—including status reports and reports of disbursements to transportation benefit program participants.

Paper records may also include the notifications described under “Routine Uses of Records Maintained in the System, * * *.”

Computer records may include data from the employee applications and/or from personnel records. Data from personnel records may include any data needed to process an application—such as that needed to verify employment, e.g., federal service computation data, organization code, or that needed to identify parking assignments or fare subsidies that are no longer valid, e.g., separation date.

Authorization for Maintenance of the System:

5 U.S.C. 301; Executive Order 12191 of February 1, 1980, on the Federal Facility Ridesharing Program; the Federal Employees Clean Air Incentives Act (5 U.S.C. 7905), effective January 1, 1994; Treatment of Employer-Provided Transportation Benefits (26 U.S.C. 132 et seq.), effective December 31, 1992; the Clean Air Act (42 U.S.C. 7418) regarding employee-owned vehicles operated on federal facilities; and transportation benefit programs required by Executive Order 13150.

Purpose(s):

Information in the system will be used to assign, manage, and control the use of vehicle parking spaces and the issuance of transportation benefits; to assist employees and the public in forming car/vanpools; to ensure compliance with the clean Air Act; and to ensure the integrity of the parking and transportation benefit programs of the Department of Justice and other federal agencies by validating parking assignments and transportation benefit program requests.

Routine Uses of Records Maintained in the System, Including Categories of Users and the Purposes of Such Uses:

Relevant records may be disclosed:

(1) As is necessary to respond to congressional inquiries on behalf of constituents;

(2) To the National Archives and Records Administration and to the General Services Administration in records management inspections conducted under the authority of Title 44 U.S.C. 2904 and 2906;

(3) To DOJ employees to enable them to contact other individuals covered by this system of records for the purpose of forming or participating in car/vanpool.

(4) To federal agencies and/or to the Metropolitan Council of Governments, and similar organizations, to enable such organizations—through coordinating efforts with other federal agencies—to provide information to any person for the purpose of contacting any individuals covered by this system of records in order to form or participate in a car/vanpool. Disclosure may include a list of program participants or, where appropriate, it may relate to only one or multiple individuals.

(5) To state transportation organizations, in summary form, in compliance with Clean Air Act requirements and Departmental guidelines.

(6) To federal agencies and DOJ parking and transportation benefit program managers. Parking spaces may be assigned according to a variety of established priorities among federal agencies and, in some instances, according to specific criteria, e.g., carpools with the greatest number of participants (except in a tie). Therefore, these disclosures would enable other federal agencies and DOJ to review the validity of parking space assignments, identify and take appropriate action with respect to those who violate parking assignment policies (as set forth in published agency operating procedures and policies), and thus allocate spaces fairly. In addition, because transportation benefits are offered to encourage the use of public transportation for those not allocated parking privileges, such disclosures would also enable other federal agencies and DOJ to ensure that both parking privileges and transportation benefits are not provided to the same employee(s), unless otherwise authorized.

(7) To federal agencies, DOJ may also provide information as follows:

DOJ Employee Information:

(a) Upon request, either a list of DOJ employees, or an affirmative, negative or “non-DOJ employee” response as to whether or not a DOJ employee(s) (or name represented to be a DOJ employee)—is listed as a participant (or as an applicant) in DOJ's parking or transportation benefit programs; or is authorized to use a DOJ vehicle for home-to-work transportation (or has requested such authorization). Disclosure is made to enable that federal agency to determine or validate a DOJ employee's eligibility to participate in its parking program.

(b) Upon DOJ initiative, either a DOJ employee name(s) or a list on which DOJ employees are named as participants (or as applicants) in DOJ's parking or transportation benefit programs, or as employees authorized to use a DOJ vehicle for home-to-work transportation (or as employees who have requested such authorization). Disclosure is made to elicit an affirmative or negative response as to whether such DOJ employee(s) participate with another federal agency employee in that agency's parking program (or have requested such participation), and thus enable DOJ to determine or validate DOJ employee eligibility for any form of DOJ parking privileges, or for DOJ transportation benefits.

Other Federal Agency Employee Information:

(c) Upon request, either a list of another federal agency's employees or an affirmative or negative response as to whether or not such employee(s) participate (or have requested participation) in DOJ's parking program. Disclosure is made to enable that agency to determine or validate eligibility for any form of parking privileges, or transportation benefits, for its employees.

(d) Upon DOJ initiative, either a federal agency employee name(s) or a list on which such agency's employee(s) are named as participating in DOJ's parking program (or has requested such participation). Disclosure is made to elicit from that agency an affirmative, negative, or “non-employee” response as to whether such employee(s) participate (or have requested participation) in that agency's parking or transportation benefit programs, or are authorized to use a vehicle for home-to-work transportation (or have requested such authorization), and thus enable DOJ to determine or validate other federal agency employee eligibility to participate in DOJ's parking program.

(e) To the Internal Revenue Service any document which provides information related to tax matters.

Non-Federal Employee Information:

(f) Upon request, either the name(s) or non-federal employees, a list of names, or a list which includes their name(s). Disclosure is made to enable to the agency to determine whether a non-federal employee may also be listed as a rider in DOJ's parking program and, as a result, enable the agency to determine or validate parking permit eligibility for its employees.

(g) Upon DOJ initiative, either the name(s) of non-federal employees, a list of names, or a list which includes their name(s). Disclosure is made to enable the DOJ to determine whether a non-federal employees may also be listed as a rider in that agency's parking program and, as a result, enable the DOJ to determine or validate parking permit eligibility for DOJ employees.

(8) To contractors, grantees, experts, consultants, students, and others performing or working on a contract, service, grant, cooperative agreement, or other assignment for the Federal Government, when necessary to accomplish an agency function related to this system of records.

(9) Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for storing, Retrieving, Accessing, Retaining, and Disposing of Records in the System:

Storage:

Records are stored in hard copy from and/or electronically.

Retrievability:

Records may be retrieved by individual name, social security number, residential zip code, vehicle tag number, vehicle type, or other information from the application or personnel records. Records may be retrieved by name or other identifier directly and/or by asking the system to segregate a list, by name, of those who work for a particular DOJ component. Former DOJ employee names are retrieved by asking the system to segregate a list, by name, of those parking participants who have separated from employment with DOJ. Other federal agency employee names are retrieved by asking the system to segregate a list, by name, of those parking participants who are identified as employees of a particular federal agency. Non-federal agency employee names may be similarly segregated.

Safeguards:

These files are stored in locked file cabinets in secured facilities, and access is restricted to personnel having an official need. Automated records are protected through computer password security.

Retention and Disposal:

Automated data is deleted from a data base within 180 days after any recordkeeping documents have been produced when the individual covered by the system no longer participates in the Employee Transportation Management program, e.g., when the employee is no longer on the ridesharing listing; is no longer a member of a car/vanpool; or, no longer receives a transportation benefit. Parking permit credentials shall be destroyed three months after the parking permits have either expired or been returned (General Records Schedule 11). Documents relating to the administration of the transit subsidy program and the transportation fringe benefit program shall be destroyed after the documents are three years old (General Records Schedule 9). The Department has requested an exemption to the General Records Schedule for documents supporting the transportation fringe benefit program. If approved, the new Schedule item will be incorporated in future revisions to this system of records.

Systems Manager(s) and Address:

Director, Facilities and Administrative Services Staff, Justice Management Division, NPB Suite 1070, Department of Justice, Washington, DC 20530.

Notification Procedures:

Individuals wanting to know whether information about them is maintained in this system of records may review their own ridesharing, parking, transportation benefit, or other personal data upon presentation of a picture identification card at the appropriate address indicated under “Records Access Procedures.”

Records Access Procedures:

Except as otherwise noted, employees of the Offices, Boards, and Divisions (listed in appendix I of part 16, 28 CFR) may appear in person or address their requests for access to: Employee Transportation Coordinator, Facilities Administrative Services Staff, Justice Management Division, NPB Suite 1070, Department of Justice, Washington, DC 20530.

Except as otherwise noted, employees of the bureaus (listed in appendix I of Part 16, 28 CFR) may appear in person or address their requests for access to the following bureau officials, attention Employee Transportation Coordinator:

Director, Bureau of Prisons, HOLC Building, 320 First Street, NW., Washington, DC 20534

Administrator, Drug Enforcement Administration, 700 Army Navy Drive, Arlington, VA 22202

Director, Federal Bureau of Investigation, J. Edgar Hoover Building, 935 Pennsylvania Avenue, NW., Washington, DC 20535-0001

Commissioner, Immigration and Naturalization Service, 425 Eye Street, NW., Washington, DC 20536

Director, U.S. Marshals Service, 600 Army Navy Drive, Arlington, VA 22202.

In those cases where parking or transportation benefit records are maintained at an individual DOJ facility or regional office, the parking or transportation coordinator at that facility or office should be contacted first.

Individuals who park in a DOJ building (or DOJ-leased space) other than the one in which they work, may review their parking record by presenting the required identification to the Employee Transportation Coordinator at the appropriate building address.

Contesting Record Procedures:

Individuals may request changes to their own record by submitting the proposed changes in writing at the appropriate address indicated under “Records Access Procedures.” Individuals who submit proposed changes to information provided by third parties should be prepared to provide information supporting their contention that such third-party information is erroneous.

Record Source Categories:

DOJ and other federal agency applicants; DOJ personnel records; state transportation organizations; participating Department components and other federal agencies.

System Exempted from Certain Provisions of the Act:

None.

[FR Doc. 01-10023 Filed 4-23-01; 8:45 am]

BILLING CODE 4410-CW-M